DEPARTMENT OF AGRICULTURE

Forest Service

Pacific Southwest Recreation Resource Advisory Committee

AGENCY: Forest Service, USDA.

ACTION: Notice of meeting.

SUMMARY: The Pacific Southwest Recreation Resource Advisory Committe will meet in Sacramento, California. The Committee is authorized under the Federal Lands Recreation Enhancement Act (REA) (Pub. L. 108-447) and operates in compliance with the Federal Advisory Committee Act (FACA) (5 U.S.C. App. II). The purpose of the Committee is to provide advice and recommendations to the Secretary regarding recreation fees on lands and waters managed by the Forest Service and Bureau of Land Management (BLM) in California. The meeting is open to the public. The purpose of the meeting is review and make recommendations on fee proposals from the Forest Service and BLM.

DATES: The meeting will be held Thursday, August 29, 2013 from 10:00 a.m. to 1:00 p.m. (PST).

ADDRESSES: The meeting will be held at the Federal Building, Room W2620, 2800 Cottage Way, Sacramento, CA. All attendees will need to pass through security and are not allowed to enter building with a phone that has a camera.

Written comments may be submitted as described under Supplementary Information. All comments, including names and addresses when provided, are placed in the record and are available for public inspection and copying. The public may inspect comments received at the Pacific Southwest Regional Office (Region 5), 1323 Club Drive, Vallejo, CA. Please call ahead to Frances Enkoji, at 707-562-8846 to facilitate entry into the building to view comments.

FOR FURTHER INFORMATION CONTACT: Ramiro Villalvazo, Designated Federal Official, Region 5 Pacific Southwest Regional Office, 707-562-8856, rvillalvazo@fs.fed.us. Individuals who use telecommunication devices for the deaf (TDD) may call the Federal Information Relay Service (FIRS) at 1-800-877-8339 between 8:00 a.m. and 8:00 p.m., Eastern Standard Time, Monday through Friday.

SUPPLEMENTARY INFORMATION: The following business will be conducted: Fee proposal for the Arcata Field office of BLM for a Wilderness permit fee and expanded amenity fees within the King Range National Conservation Area. The Committee will also review and make recommendations on the fee proposal to reduce the size of the Lake Isabella recreation fee area and split it into three fee sites, at Auxilary Dam, Old Isabella, and South Fork on the Sequoia National Forest. The agenda and further information can be found at http://www.fs.usda.gov/main/r5/recreation/racs.

Anyone who would like to bring related matters to the attention of the Committee may file written statements with the Committee staff before the meeting. The agenda will include time for people to make oral statements of 3 minutes or less.

Individuals wishing to make oral statements should request in writing by Friday, August 23, 2013, to be scheduled on the agenda. Written comments and requests for time for oral comments must be sent to Ramiro Villalvazo, 1323 Club Drive, Vallejo, CA 94592, or by email to rvillalvazo@fs.fed.us, or via facsimile to 707-562-9047. A summary of the meeting will be posted at the Committee's Web site listed above within 21 days of the meeting. If you require sign language interpreting, assistive listening devices or other reasonable accommodation, please request this in advance of the meeting by contacting the person listed in the section titled FOR FURTHER INFORMATION CONTACT. All reasonable accommodation requests are managed on a case by case basis.

Dated: August 7, 2013.
Ramiro Villalvazo,
Designated Federal Official, Recreation RRAC.

[FR Doc. 2013-19536 Filed 8-12-13; 8:45 am]

BILLING CODE 3410-11-P